FEDERAL RESERVE SYSTEM

12 CFR Part 269a

[Docket No. R-1056]

Labor Relations for the Federal Reserve System

AGENCY: Board of Governors of the Federal Reserve System.

ACTION: Interim rule with request for comments; policy statement.

SUMMARY: The Board of Governors of the Federal Reserve System (the Board) has an internal “Policy on Labor Relations for the Board of Governors of the Federal Reserve System,” which was revised in 1983 through notice and comment. The Board has determined that its regulation entitled “Policy on Labor Relations for the Federal Reserve Banks” should be applied to the Board policy insofar as that regulation provides procedures for processing charges of unfair labor practices. In addition, the Board is amending the references in its policy to the “Federal Reserve System Labor Relations Panel” to read “Federal Reserve Board Labor Relations Panel” which is the correct name of this panel. Further, the Board is also amending part 269a by correcting cross-references to another Board regulation.

DATES: This interim rule is effective January 19, 2000. Submit comments on or before March 20, 2000.

ADDRESSES: Comments, which should refer to Docket No. R-1056, may be mailed to the Board of Governors of the Federal Reserve System, 20th and C Streets, NW, Washington, DC 20551; Attention: Ms. Jennifer J. Johnson, Secretary, or may be delivered to the Board's mail room between 9 a.m. and 5 p.m. All comments received may be inspected in Room MP-500 of the Martin Building between 9 a.m. and 5 p.m., Monday through Friday, except as provided in 12 CFR 261.11(a) of the Board's Rules Regarding Availability of Information.

FOR FURTHER INFORMATION CONTACT: Richard M. Ashton, Associate General Counsel (202-452-3750), Legal Division, Board of Governors of the Federal Reserve System. For the hearing impaired only, Telecommunication Device for the Deaf (TDD), Diane Jenkins (202-452-3544), Board of Governors of the Federal Reserve System, 20th and C Street NW, Washington, DC 20551.

SUPPLEMENTARY INFORMATION: Under the authority provided in the Federal Reserve Act, the Board has recognized the rights of its employees to organize and bargain collectively through recognized representatives and to be free from unfair labor practices. See Sections 10(4) and 11(l) (providing the Board exclusive authority over employment at the Board). The Board has adopted a “Policy on Labor Relations for the Board of Governors of the Federal Reserve System” which prohibits unfair labor practices and sets up the Federal Reserve Board Labor Relations Panel (Board Panel) to adjudicate charges of unfair labor practices. The policy authorizes the Board to issue rules to remedy unfair labor practices listed in the policy. The policy provides that the Board Panel will adhere to the rules and regulations promulgated by the Board for this purpose.

The Board has also adopted a “Policy on Labor Relations for the Reserve Banks,” which is very similar in many respects to the Board Policy. 12 CFR part 269. The Board policy, like the Reserve Bank policy, prohibits certain unfair labor practices. The Bank policy, which establishes a Federal Reserve System Labor Relations Panel, also contains procedures for presenting and remedying unfair labor practices. Like the Board policy, the Bank policy, including the unfair labor practice procedures, was adopted after public notice and opportunity for comment. 48 FR 18820 (April 26, 1983); 48 FR 32331 (July 15, 1983).

An unfair labor practice charge under the Board policy has recently been filed. The Board has determined that the procedures for adjudicating unfair labor practice claims and other matters provided in its “Policy on Labor Relations for the Reserve Banks” should be applied to the processing of charges of unfair labor practice filed under the Board policy.

Accordingly, the Board is amending the Board policy to provide that in processing charges of unfair labor practices under that policy, 12 CFR part 269a and 269b of the Bank policy will govern. Thus, where the Bank policy refers to “bank,” the reference will be read as referring to the “Board” and where it refers to the “Federal Reserve System Labor Relations Panel,” the reference will be read as referring to the Board Panel. In addition, the Board is correcting all references in its policy to the “Federal Reserve System Labor Relations Panel” to read “Federal Reserve Board Labor Relations Panel” which is the correct name of this panel. Further, references in part 269a to part 292, which was removed and redesignated in 1983 into part 269b after notice and public comment, will be revised to refer to the correct sections in part 269b.

Pursuant to 5 U.S.C. 553(d)(3), the Board has determined that it is unnecessary, and would be impracticable, to defer the effective date of this action until after public comments have been received and considered, although the Board will consider all public comments received and make changes in its procedures based on those comments where appropriate. The Board has also determined, pursuant to 5 U.S.C. 553(d)(3), that good cause exists to make this action effective immediately rather than to defer its effective date for 30 days. The procedures here adopted for use by the Board Panel were issued for the System Panel in 1983 following notice and public comment and the substance of the unfair labor practice provisions in the Board and the Reserve Bank policies are essentially the same. 48 FR 32331 (July 15, 1983). A pending matter under the Board policy requires that those procedures be used by the Board Panel without delay in the interest of fairness.

The Board is amending its “Policy on Labor Relations for the Board of Governors of the Federal Reserve System” published on July 15, 1983 (48 FR 32334) as set forth below:

Policy on Labor Relations for the Board of Governors of the Federal Reserve System

1. Section 6, paragraph (d), of this policy is amended to read as follows:

Section 6 Unfair Labor Practices

(d) The Federal Reserve Board Labor Relations Panel will follow the rules in 12 CFR parts 269a and 269b for the prevention and remedy of the unfair labor practices listed in this Policy. For purposes of this Policy, the reference in § 269b.110 to § 269.6 will be read as referring to section 6 of this Policy. References in parts 269a and 269b to a Federal Reserve Bank will be read as referring to the Board. References in parts 269a and 269b to the Federal Reserve System Labor Relations Panel will be read as referring to the Federal Reserve Board Labor Relations Panel.

2. Every reference in the policy to the “Federal Reserve System Labor Relations Panel” is removed and the words “Federal Reserve Board Labor Relations Panel” are added in their place.

List of Subjects in 12 CFR Part 269a

Federal Reserve System, Labor-management relations.

For the reasons set out in the preamble, 12 CFR part 269a is amended as set forth below:

PART 269a—DEFINITIONS

1. The authority citation for 12 CFR part 269a continues to read as follows:

Authority: Sec. 11, 38 Stat. 261 (12 U.S.C. 248).

§ 269a.4 [Amended]

2. In § 269a.4, remove the reference to “§ 292.210” and add the reference to “§ 269b.210” in its place.

§ 269.5 [Amended]

3. In § 269a.5, remove the reference to “§ 292.420 et seq.” and add the reference to “§ 269b.420 et seq.” in its place and remove the reference to “§ 292.442” and add the reference to “§ 269b.442” in its place.

By order of the Board of Governors of the Federal Reserve System, January 11, 2000.
Jennifer J. Johnson,
Secretary of the Board.

[FR Doc. 00-997 Filed 1-14-00; 8:45 am]

BILLING CODE 6210-01-P